DEPARTMENT OF COMMERCE

International Trade Administration

[A-122-863]

Large Diameter Welded Pipe From Canada: Preliminary Results of Antidumping Duty Administrative Review and Preliminary Determination of No Shipments; 2018-2020

AGENCY: Enforcement and Compliance, International Trade Administration, Department of Commerce.

SUMMARY: The Department of Commerce (Commerce) is conducting an administrative review of the antidumping duty order on large diameter welded pipe (welded pipe) from Canada. The period of review (POR) is August 27, 2018, through April 30, 2020. The review covers forty-one producers or exporters of the subject merchandise. We preliminarily determine that sales of subject merchandise were made at prices below normal value (NV) during the POR. Interested parties are invited to comment on these preliminary results.

DATES: Applicable August 4, 2021.

FOR FURTHER INFORMATION CONTACT: Joseph Dowling, AD/CVD Operations, Office VIII, Enforcement and Compliance, International Trade Administration, U.S. Department of Commerce, 1401 Constitution Avenue NW, Washington, DC 20230; telephone (202) 482-1646.

SUPPLEMENTARY INFORMATION:

Background

On May 2, 2019, Commerce published the antidumping duty order on welded pipe from Canada.¹ On July 10, 2020, in accordance with 19 CFR 351.221(c)(i), Commerce initiated an administrative review of the Order, covering 41 producers or exporters of the subject merchandise.² On August 5, 2020, we selected Evraz Inc. NA ³ as the sole mandatory respondent for this administrative review.⁴ On July 22, 2020, Commerce tolled all deadlines in administrative reviews by 60 days.⁵ Pursuant to section 751(a)(3)(A) of the Tariff Act of 1930, as amended (the Act), Commerce determined that it was not practicable to complete the preliminary results of this review within 245 days and extended the deadline for the preliminary results of this review by 120 days, until July 30, 2021.⁶

¹ See Large Diameter Welded Pipe from Canada: Antidumping Duty Order, 84 FR 18775 (May 2, 2019) (Order).

² See Initiation of Antidumping and Countervailing Duty Administrative Reviews, 85 FR 41540 (July 10, 2020) (Initiation Notice).

³ In the underlying less-than-fair-value (LTFV) investigation, Commerce determined that Evraz Inc. NA, Evraz Inc. NA Canada, and the Canadian National Steel Corporation (collectively, Evraz) comprise a single entity. See Large Diameter Welded Pipe from Canada: Antidumping Duty Order, 84 FR 18775 (May 2, 2019) (Order). There is no information on this record of this review that requires reconsideration of this single entity determination.

⁴ See Memorandum, “Antidumping Duty Administrative Review of Large Diameter Welded Pipe from Canada, 2018-2020—Respondent Selection,” dated August 5, 2020.

⁵ See Memorandum, “Tolling of Deadlines for Antidumping and Countervailing Duty Administrative Reviews,” dated July 22, 2020.

⁶ See Memorandum, “Large Diameter Welded Pipe from Canada: Extension of Deadline for Preliminary Results of 1st Antidumping Duty Administrative Review,” dated March 10, 2021; see also Memorandum, “Large Diameter Welded Pipe from Canada: Extension of Deadline for Preliminary Results of 1st Antidumping Duty Administrative Review,” dated June 28, 2021.

For a detailed description of the events that followed the initiation of this review, see the Preliminary Decision Memorandum.⁷ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly on the internet at http://enforcement.trade.gov/frn/.

⁷ See Memorandum, “Decision Memorandum for the Preliminary Results of Antidumping Duty Administrative Review: Large Diameter Welded Pipe from Canada; 2018-2020,” dated concurrently with, and hereby adopted by, this notice (Preliminary Decision Memorandum).

Scope of the Order

The product covered by this Order is welded pipe from Canada. For a full description of the scope, see the Preliminary Decision Memorandum.

Preliminary Determination of No Shipments

One producer and/or exporter under review, Canam (St Gedeon) (Canam), properly filed a certification reporting that it made no shipments of subject merchandise during the POR.⁸ We received no information from CBP that contradicted Canam's no-shipment claim.⁹ Therefore, we preliminarily determine that this company did not have shipments of subject merchandise during the POR. Consistent with Commerce's practice,¹⁰ Commerce finds that it is not appropriate to rescind the review with respect to this company, but rather, to complete the review and issue appropriate instructions to CBP based on the final results of this review.

⁸ In the Initiation Notice, this company was listed as Canam (St Gedeon). However, in its certification of no shipments, it noted that Canam (St Gedeon) is a plant location and not its legal name. It also noted that it had recently undergone a corporate restructuring and is now named Canam Group Inc., which is the successor entity to Canam Group Inc. f/k/a Canam Buildings and Structures Inc. See Canam's Letter, “No Shipments Letter for Canam Group Inc. f/k/a Canam Buildings and Structures Inc.,” dated August 7, 2020.

⁹ See Memorandum, “No Shipment Inquiry with Respect to the Company below during the Period 08/27/2018 through 04/30/2020,” dated August 20, 2020.

¹⁰ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306 (August 28, 2014).

Methodology

Commerce is conducting this review in accordance with section 751(a) of the Act. Export price is calculated in accordance with section 772 of the Act. Normal value is calculated in accordance with section 773 of the Act. For a full description of the methodology underlying these preliminary results, see the Preliminary Decision Memorandum. A list of topics included in the Preliminary Decision Memorandum is included as an appendix to this notice.

Preliminary Results of the Review

We preliminarily determine that the following weighted-average dumping margins exist for the period of August 27, 2018, through April 30, 2020:

¹¹ See Appendix II.

Exporter or producer | Weighted- average dumping margin (percent)
Evraz Inc. NA | 14.33
Non-Selected Companies Under Review ¹¹ | 14.33

Rate for Non-Selected Companies

For the weighted-average dumping margin for non-selected respondents in an administrative review, generally, Commerce looks to section 735(c)(5) of the Act, which provides instructions for calculating the all-others rate in an investigation. Under section 735(c)(5)(A) of the Act, the all-others rate is normally an amount equal to the weighted average of the estimated weighted-average dumping margins established for exporters and producers individually investigated, excluding any zero or de minimis margins, and any margins determined entirely on facts available. We preliminarily calculated a weighted-average dumping margin for Evraz that was not zero, de minimis, or based on facts available. Accordingly, we have preliminarily applied the weighted-average dumping margin calculated for Evraz as the weighted-average dumping margin for the non-individually examined companies.

Disclosure and Public Comment

We intend to disclose the calculations performed for these preliminary results to parties within five days after public announcement of the preliminary results.¹²

¹² See 19 CFR 351.224(b).

Pursuant to 19 CFR 351.309(c), interested parties may submit case briefs no later than 30 days after the date of publication of this notice.¹³ Rebuttal briefs, limited to issues raised in the case briefs, may be filed not later than seven days after the date for filing case briefs.¹⁴ Parties who submit case briefs or rebuttal briefs in this proceeding are encouraged to submit with each argument: (1) A statement of the issue; (2) a brief summary of the argument; and (3) a table of authorities.¹⁵ Executive summaries should be limited to five pages total, including footnotes. Case and rebuttal briefs should be filed using ACCESS ¹⁶ and must be served on interested parties.¹⁷ Note that Commerce has temporarily modified certain of its requirements for serving documents containing business proprietary information, until further notice.¹⁸

¹³ See 19 CFR 351.309(c)(1)(ii).

¹⁴ See 19 CFR 351.309(d)(1) and (2); see also Temporary Rule Modifying AD/CVD Service Requirements Due to COVID-19, 85 FR 17006 (March 26, 2020); and Temporary Rule Modifying AD/CVD Service Requirements Due to COVID-19; Extension of Effective Period, 85 FR 41363 (July 10, 2020).

¹⁵ See 19 CFR 351.309(c)(2) and (d)(2).

¹⁶ See 19 CFR 351.303.

¹⁷ See 19 CFR 351.303(f).

¹⁸ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by ACCESS by 5 p.m. Eastern Standard Time within 30 days after the date of publication of this notice. Requests should contain: (1) The party's name, address, and telephone number; (2) the number of participants; and (3) a list of issues to be discussed. Issues raised in the hearing will be limited to those raised in the respective case and rebuttal briefs. If a request for a hearing is made, Commerce intends to hold the hearing at a date and time to be determined.

Assessment Rates

Pursuant to section 751(a)(2)(A) of the Act and 19 CFR 351.212(b)(1), Commerce will determine, and U.S. Customs and Border Protection (CBP) shall assess, antidumping duties on all appropriate entries of subject merchandise in accordance with the final results of this review. Commerce intends to issue assessment instructions to CBP 35 days after the date of publication of the final results of this administrative review in the Federal Register. If a timely summons is filed at the U.S. Court of International Trade, the assessment instructions will direct CBP not to liquidate relevant entries until the time for parties to file a request for a statutory injunction has expired (i.e., within 90 days of publication).

If Evraz's weighted-average dumping margin is above de minimis (i.e., 0.50 percent), upon completion of the final results, Commerce will calculate importer-specific assessment rates on the basis of the ratio of the total amount of dumping calculated for the importer's examined sales to the total entered value of sales. Where we do not have entered values for all U.S. sales to a particular importer, we will calculate a per-unit assessment rate by aggregating the antidumping duties due for all U.S. sales to that importer and dividing this amount by the total quantity sold to that importer.¹⁹ To determine whether the duty assessment rates are de minimis, in accordance with the requirement set forth in 19 CFR 351.106(c)(2), we calculate importer-specific ad valorem ratios based on the estimated entered value. Where Evraz's weighted-average dumping margin is zero or de minimis, or an importer-specific ad valorem rate is zero or de minimis, we will instruct CBP to liquidate appropriate entries without regard to antidumping duties.²⁰ For the companies which were not selected for individual examination, we intend to direct CBP to assess antidumping duties at a rate equal to the weighted-average dumping margin determined for Evraz in the final results.

¹⁹ See 19 CFR 351.212(b)(1).

²⁰ See 19 CFR 352.106(c)(2); see also Antidumping Proceeding: Calculation of the Weighted-Average Dumping Margin and Assessment Rate in Certain Antidumping Proceedings; Final Modification, 77 FR 8101, 8103 (February 14, 2012).

For entries of subject merchandise during the POR produced by Evraz for which it did not know its merchandise was destined for the United States, we will instruct CBP to liquidate such entries at the all-others rate if there is no rate for the intermediate company(ies) involved in the transaction.²¹

²¹ See Antidumping and Countervailing Duty Proceedings: Assessment of Antidumping Duties, 68 FR 23954 (May 6, 2003).

The final results of this review shall be the basis for the assessment of antidumping duties on entries of merchandise covered by the final results of this review and for future cash deposits of estimated duties, where applicable.²²

²² See section 751(a)(2)(C) of the Act.

Cash Deposit Requirements

The following cash deposit requirements will be effective for all shipments of the subject merchandise entered, or withdrawn from warehouse, for consumption on or after the publication date of the final results of this administrative review, as provided by section 751(a)(2)(C) of the Act: (1) The cash deposit rate for the companies listed above will be that established in the final results of this review, except if the rate is less than 0.50 percent and, therefore, de minimis within the meaning of 19 CFR 351.106(c)(1), in which case the cash deposit rates will be zero; (2) for previously reviewed or investigated companies not covered in this review, the cash deposit rate will continue to be the company-specific rate published for the most recently-completed segment of this proceeding in which the company was reviewed; (3) if the exporter is not a firm covered in this review or in the LTFV investigation, but the manufacturer is, then the cash deposit rate will be the company-specific rate established for the most recently-completed segment of this proceeding for the manufacturer of subject merchandise; and (4) the cash deposit rate for all other producers or exporters will continue to be 12.32 percent, the all-others rate established in the LTFV investigation.²³ These cash deposit requirements, when imposed, shall remain in effect until further notice.

²³ See Order.

Final Results of Review

Unless otherwise extended, Commerce intends to issue the final results of this administrative review, including the results of its analysis of issues raised by the parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

These preliminary results are issued and published in accordance with sections 751(a)(1) and 777(i)(1) of the Act, and 19 CFR 351.221(b)(4).

Dated: July 28, 2021.
Christian Marsh,
Acting Assistant Secretary for Enforcement and Compliance.

Appendix I

List of Topics Discussed in the Preliminary Decision Memorandum

I. Summary

II. Background

III. Scope of the Order

IV. Preliminary Determination of No Shipments

V. Rate for Non-Examined Companies

VI. Discussion of the Methodology

VII. Currency Conversion

VIII. Recommendation

Appendix II

Review-Specific Rate Applicable to Companies Not Selected for Individual Review

1. Acier Profile SBB Inc

2. Aciers Lague Steels Inc

3. Amdor Inc

4. BPC Services Group

5. Bri-Steel Manufacturing

6. Canada Culvert

7. Canadian National Steel Corp

8. Cappco Tubular Products Canada Inc

9. CFI Metal Inc

10. Dominion Pipe & Piling

11. Enduro Canada Pipeline Services

12. Fi Oilfield Services Canada

13. Forterra

14. Gchem Ltd

15. Graham Construction

16. Groupe Fordia Inc

17. Grupo Fordia Inc

18. Hodgson Custom Rolling

19. Hyprescon Inc

20. Interpipe Inc

21. K K Recycling Services

22. Kobelt Manufacturing Co

23. Labrie Environment

24. Les Aciers Sofatec

25. Lorenz Conveying P

26. Lorenz Conveying Products

27. Matrix Manufacturing

28. MBI Produits De Forge

29. Nor Arc

30. Peak Drilling Ltd

31. Pipe & Piling Sply Ltd

32. Pipe & Piling Supplies

33. Prudental

34. Prudential

35. Shaw Pipe Protecction

36. Shaw Pipe Protection

37. Tenaris Algoma Tubes Facility

38. Tenaris Prudential

39. Welded Tube of Can Ltd

[FR Doc. 2021-16625 Filed 8-3-21; 8:45 am]

BILLING CODE 3510-DS-P